DEPARTMENT OF ENERGY

Federal Energy Regulatory Commission

[Docket Nos. RP00-331-007, RP01-23-009, and RP03-176-005]

Algonquin Gas Transmission Company; Notice of Compliance Filing

May 11, 2004.

Take notice that on May 6, 2004, Algonquin Gas Transmission Company (Algonquin) tendered for filing as part of its FERC Gas Tariff, Fourth Revised Volume No. 1, the following revised tariff sheets to be effective May 1, 2004:

Third Sub Second Revised Sheet No. 673

Third Sub Second Revised Sheet No. 675

Algonquin states that the purpose of this filing is to clarify the effective date for the changes to the cashout mechanism in section 25.10 of the General Terms and Conditions included in the compliance filing submitted on April 12, 2004, in the captioned dockets.

Algonquin states that copies of its filing have been mailed to all affected customers and interested state commissions, as well as to all parties on the official service lists compiled by the Secretary of the Commission in these proceedings.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Linda Mitry,
Acting Secretary.

[FR Doc. E4-1165 Filed 5-14-04; 8:45 am]

BILLING CODE 6717-01-P